DEPARTMENT OF TRANSPORTATION

Federal Highway Administration

Tier 1 Environmental Impact Statement: East Baton Rouge, West Baton Rouge, Iberville, Ascension, and Livingston Parishes, LA

AGENCY: Federal Highway Administration (FHWA), DOT.

ACTION: Notice of intent.

SUMMARY: The FHWA is issuing this notice to advise the public that a Tier 1 Environmental Impact Statement (EIS) will be prepared for a proposed toll highway facility in the vicinity of Baton Rouge, Louisiana.

FOR FURTHER INFORMATION CONTACT: Mr. Carl M. Highsmith, Project Delivery Team Leader, Federal Highway Administration, 5304 Flanders Drive, Suite A, Baton Rouge, Louisiana 70808, Telephone: (225) 757-7615, or Mr. Bryan K. Harmon, City of Baton Rouge, Parish of East Baton Rouge, Department of Public Works, Engineering Division, Deputy Director/Chief Engineer, Room 409, Municipal Building, 300 North Boulevard, Post Office Box 1471, Baton Rouge, LA 70821, Telephone: (225) 389-3186. Project information can be found at the project Internet Web site at http://www.brloop.com.

SUPPLEMENTARY INFORMATION: The FHWA, in cooperation with the Capital Area Expressway Authority, and the City of Baton Rouge, Parish of East Baton Rouge, Louisiana will prepare a Tier 1 EIS on corridor alternatives for the proposed Baton Rouge Loop. The Baton Rouge Loop is planned on new location around Baton Rouge, Louisiana connecting I-10 west of Baton Rouge to I-10 south of Baton Rouge, I-10 west of Baton Rouge to I-12 east of Baton Rouge (which includes an interchange with I-110), and I-10 south of Baton Rouge to I-12 east of Baton Rouge. The project would include one or two major bridge crossings of the Mississippi River. the prototype corridor is approximately 77 miles long. The proposed facility would be controlled access toll road on new location that would initially have four lanes with provision to expand to six lanes. Major arterials that must be traversed, or incorporated into the complete Loop project may include: Interstate 10, Interstate 12, Interstate 100, US 190 (West Baton Rouge Parish), Scenic Highway (US 61), Airline Highway (US 190), Plank Road (LA 67), Harding Boulevard/Hooper Road (LA 408), Blackwater Road (LA 410), Joor Road (LA 946), Range Road (LA 16), Arnold Road (LA 1025), Walker Road North (LA 447), River Road (LA 327), Gardere Lane (LA 327), Bluebonnet Boulevard, Nicholson Road (LA 30), Airline Highway (US 61), LA 42, LA 44, and Walker Road South (LA 447).

The new facility is considered necessary to provide for existing and future traffic demand and to improve the hurricane evacuation system. At a minimum, the current project will examine, in addition to the no build alternative, three corridor build alternatives to be identified in the Baton Rouge Loop Implementation Plan, which is a planning study to identify engineering, environmental, financial, and community input factors that are important elements in the identification of potential loop corridors. The Tier 1 EIS is being initiated concurrently with the completion of the latter stages of the Implementation Plan. When the full loop corridor is established as a result of the Tier 1 EIS, one or more Tier 2 EIS's will be initiated to select an alignment within the corridor and detailed design features for individual segments of independent utility.

Letters describing the proposed action and soliciting comments will be sent to appropriate Federal, State, local agencies, tribes, elected officials and to private organizations and citizens who have previously expressed or are known to have interest in this proposal. Numerous public meetings will be held throughout the term of the project. The first of these meetings, a series of public scoping meetings, will be conducted to provide the public with information about the project and an opportunity to assist in formulating the scope of the study. The public scoping meetings are scheduled as follows:

• February 25th—East Baton Rouge Parish—BREC Headquarters.

• February 26th—Ascension Parish—Gonzales Civic Center.

• February 27th—Livingston Parish—North Park Recreation Center.

• February 28th—West Baton Rouge Parish—Port Allen Community Center.

• March 3rd—Iberville Parish—Plaquemine Civic Center.

A formal scoping meeting for agency input will be scheduled soon after initiation of the EIS. In addition, a public hearing will be held. Public notice will be given of the time and place of the public hearing. The draft EIS will be available for public and agency review and comment prior to the public hearing.

To ensure that the full range of issues related to this proposed project are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation of Federal programs and activities, apply to this program.)

Authority: 23 U.S.C., 315; 23 CFR 771.123.

Issued on: February 6, 2008.
Charles “Wes” Bolinger,
Division Administrator, FHWA, Louisiana Division, Baton Rouge, LA.

[FR Doc. 08-629 Filed 2-12-08; 8:45 am]

BILLING CODE 4910-22-M